DEPARTMENT OF LABOR

Employment and Training Administration

[TA-W-82,705; TA-W-82,705A; TA-W-82,705B; TA-W-82,705C; TA-W-82,705D; TA-W-82,705E]

The Boeing Company Boeing Commercial Aircraft (BCA) Auburn, Washington; The Boeing Company Boeing Commercial Aircraft (BCA) Everett, Washington; The Boeing Company Boeing Commercial Aircraft (BCA) Puyallup, Washington; The Boeing Company Boeing Commercial Aircraft (BCA) Including Four Locations In Renton, Washington; The Boeing Company Boeing Commercial Aircraft (BCA) Seattle, Washington; The Boeing Company Boeing Commercial Aircraft (BCA) Tukwila, Washington: Amended Certification Regarding Eligibility To Apply for Worker Adjustment Assistance

In accordance with Section 223 of the Trade Act of 1974, as amended (“Act”), 19 U.S.C. 2273, the Department of Labor issued a Certification of Eligibility to Apply for Worker Adjustment Assistance on June 12, 2013, applicable to workers and former workers of The Boeing Company, (BCA) Auburn, Washington (TA-W-82,705), Everett, Washington (TA-W-82,705A), Puyallup, Washington (TA-W-82,705B), North 8th and Logan Avenue North, Renton, Washington (TA-W-82,705C), Seattle, Washington (TA-W-82,705D), and Tukwila, Washington (TA-W-82,705E). The workers are engaged in activities related to the production of commercial passenger aircraft. The Department's notice was published in the Federal Register on July 2, 2013 (78 FR 39775).

At the request of a union official, the Department reviewed the certification for workers of the subject firm.

New information shows that the correct name of the subject firm in its entirety should read The Boeing Company, Boeing Commercial Aircraft (BCA) located at the above mentioned locations. Information also shows that worker separations occurred during the relevant time period at two additional facilities: 10-16 Building 535 Garden Avenue North, Renton, Washington and 10-18 Building 635 Park Avenue North, Renton, Washington locations of The Boeing Company.

Accordingly, the Department is amending the certification to correctly identify the certified worker group as The Boeing Company, Boeing Commercial Aircraft (BCA) and to include workers at the 10-16 Building 535 Garden Avenue North, Renton, Washington and 10-18 Building 635 Park Avenue North, Renton, Washington facilities of the subject firm.

The amended notice applicable to TA-W-82,705, TA-W-82,705A, TA-W-82,705B, TA-W-82,705C, TA-W-82,705D and TA-W-82,705E is hereby issued as follows:

All workers of The Boeing Company, Boeing Commercial Aircraft (BCA), Auburn, Washington (TA-W-82,705), The Boeing Company, Boeing Commercial Aircraft (BCA), Everett, Washington (TA-W-82,705A), The Boeing Company, Boeing Commercial Aircraft (BCA), Puyallup, Washington (TA-W-82,705B), The Boeing Company, Boeing Commercial Aircraft (BCA), North 8th, Logan Avenue North, 10-16 Building 535 Garden Avenue North and 10-18 Building 635 Park Avenue North, Renton, Washington (TA-W-82,705C), The Boeing Company, Boeing Commercial Aircraft (BCA), Seattle, Washington (TA-W-82,705D) and The Boeing Company, Boeing Commercial Aircraft (BCA), Tukwila, Washington (TA-W-82,705E). who became totally or partially separated from employment on or after April 26, 2012 through June 12, 2015, and all workers in the group threatened with total or partial separation from employment on the date of certification through two years from the date of certification, are eligible to apply for adjustment assistance under Chapter 2 of Title II of the Trade Act of 1974, as amended.

Signed in Washington, DC, this 17th day of July, 2013.
Michael W. Jaffe,
Certifying Officer, Office of Trade Adjustment Assistance.

[FR Doc. 2013-18925 Filed 8-5-13; 8:45 am]

BILLING CODE 4510-FN-P